DEPARTMENT OF THE TREASURY

Proposed Collection; Comment Request for Forms 1065, 1066, 1120, 1120-C, 1120-F, 1120-H, 1120-ND, 1120-S,1120-SF,1120-FSC,1120-L,1120-PC,1120-REIT,1120-RIC,1120-POL, and Related Attachments

AGENCY: Departmental Offices, U.S. Department of the Treasury.

ACTION: Notice.

SUMMARY: The Internal Revenue Service, as part of its continuing effort to reduce paperwork and respondent burden, invites the general public and other Federal agencies to take this opportunity to comment on proposed and/or continuing information collections, as required by the Paperwork Reduction Act of 1995 (PRA). The IRS is soliciting comments on forms used by business entity taxpayers.

DATES: Comments should be received on or before January 21, 2025 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

Internal Revenue Service (IRS)

Title: U.S. Business Income Tax Return.

OMB Number: 1545-0123.

Form Numbers: Forms 1065, 1066, 1120, 1120-C, 1120-F, 1120-H, 1120-ND, 1120-S, 1120-SF, 1120-FSC, 1120-L, 1120-PC, 1120-REIT, 1120-RIC, 1120-POL and all attachments to these forms.

Abstract: These forms are used by businesses to report their income tax liability.

Current Actions: There have been changes in regulatory guidance related to various forms approved under this approval package during the past year. There have been additions and removals of forms included in this approval package This approval package is being submitted for renewal purposes.

Type of Review: Revision of a currently approved collection.

Affected Public: Corporations, Partnerships and Pass-Through Entities.

Estimated Number of Respondents: 13,900,000.

Estimated Time per Respondent (Hours): 67 hours, 25 minutes.

Estimated Total Annual Time (Hours): 935,100,000.

Estimated Total Annual Monetized Time ($): 56,152,000,000.

Estimated Total Out-of-Pocket Costs ($): 71,617,000,000.

Estimated Total Monetized Burden ($): 127,769,000,000.

Note: Total Monetized Burden = Total Out-of-Pocket Costs + Total Annual Monetized Time.

Tax Compliance Burden: Tax compliance burden is defined as the time and money taxpayers spend to comply with their tax filing responsibilities. Time-related activities include recordkeeping, tax planning, gathering tax materials, learning about the law and what you need to do, and completing and submitting the return. Out-of-pocket costs include expenses such as purchasing tax software, paying a third-party preparer, and printing and postage. Tax compliance burden does not include a taxpayer's tax liability, economic inefficiencies caused by sub-optimal choices related to tax deductions or credits, or psychological costs.

Table 1—Fiscal Year 2025 Taxpayer Burden for Entities Taxed as Partnerships
Primary form filed or type of taxpayer | Total number of returns (in millions) | Average time (hrs.) | Average out-of-pocket cost | Average monetized burden
All Partnerships | 5.4 | 60 | $5,000 | $8,500
Small | 5.0 | 50 | 3,100 | 5,100
Large * | 0.4 | 190 | 28,200 | 50,000
Forms 1065, 1066, and all attachments.

Table 2—Fiscal Year 2025 Taxpayer Burden for Entities Taxed as Taxable Corporations
Primary form filed or type of taxpayer | Total number of returns (in millions) | Average time (hrs.) | Average out-of-pocket cost | Average monetized burden
All Taxable Corporations | 2.3 | 100 | $7,400 | $15,400
Small | 2.1 | 50 | 3,500 | 6,000
Large * | 0.2 | 690 | 59,200 | 139,600
Forms 1120, 1120-C, 1120-F, 1120-H, 1120-ND, 1120-SF, 1120-FSC, 1120-L, 1120-PC, 1120-POL, and all attachments.

Table 3—Fiscal Year 2025 Taxpayer Burden for Entities Taxed as Pass-Through Corporations
Primary form filed or type of taxpayer | Total number of returns (in millions) | Average time (hrs.) | Average out-of-pocket cost | Average monetized burden
All Pass-through Corporations | 6.2 | 60 | $4,500 | $8,500
Small | 6.1 | 60 | 3,900 | 5,100
Large * | 0.1 | 300 | 40,600 | 50,000
Forms 1120-REIT, 1120-RIC, 1120-S, and all attachments.
Source: IRS:RAAS:KDA:BRDN (12-1-24).
* A large business is defined as one having end-of-year assets greater than $10 million. Total filer counts may not equal the burden total estimates table due to rounding.

Tables 1A-3A show the average burden estimate for business entities by total positive income. Total positive income is defined as the sum of all positive income amounts reported on the return.

Table 1A—Fiscal Year 2025 Taxpayer Burden for Taxable Corporations on Form 1120
Total positive income | Average time (hrs.) | Average out-of-pocket costs | Average monetized burden
1. <100k | 33 | $1,412 | $1,931
2. 100k to 1mil | 49 | 4,559 | 6,604
3. 1mil to 10mil | 93 | 13,893 | 23,988
4. 10mil to 100mil | 390 | 54,933 | 100,276
5. >100mil | 3,325 | 290,812 | 677,311

Table 2A—Fiscal Year 2025 Taxpayer Burden for Pass-Through Corporations on Form 1120S
Total positive income | Average time (hrs.) | Average out-of-pocket costs | Average monetized burden
1. <100k | 47 | $1,686 | $2,381
2. 100k to 1mil | 52 | 4,014 | 5,934
3. 1mil to 10mil | 72 | 10,223 | 17,779
4. 10mil to 100mil | 276 | 40,402 | 72,483
5. >100mil | 1,199 | 167,915 | 307,245

Table 3A—Fiscal Year 2025 Taxpayer Burden for Partnerships on Form 1065
Total positive income | Average time (hrs.) | Average out-of-pocket costs | Average monetized burden
1. <100k | 39 | $1,663 | $2,453
2. 100k to 1mil | 49 | 4,743 | 7,319
3. 1mil to 10mil | 86 | 13,803 | 23,334
4. 10mil to 100mil | 319 | 51,636 | 88,752
5. >100mil | 1,494 | 223,989 | 397,651
Source: IRS: RAAS:KDA:BRDN (12-1-24).
Detail may not add to total due to rounding.

(Authority: 44 U.S.C. 3501 et seq.)

Melody Braswell,
Treasury PRA Clearance Officer.

[FR Doc. 2024-30075 Filed 12-18-24; 8:45 am]

BILLING CODE 4810-25-P